DEPARTMENT OF STATE

[Public Notice 4117]

Culturally Significant Object Imported for Exhibition Determinations: “Galleries for Nineteenth Century European Paintings”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “Galleries for Nineteenth Century European Paintings,” imported from abroad for temporary exhibition within the United States, are of cultural significance. The objects are imported pursuant to a loan agreement with the foreign owners. I also determine that the exhibition or display of the exhibit objects at The Metropolitan Museum of Art, New York, NY from on or about September 21, 2002 to on or about May 2003, and then at the Art Institute of Chicago from on or about June 16, 2004 until on or about September 19, 2004, and at possible additional venues yet to be determined, is in the national interest. Public Notice of these Determinations is ordered to be published in the Federal Register.

FOR FURTHER INFORMATION CONTACT: For further information, contact Orde F. Kittrie, Attorney-Adviser, Office of the Legal Adviser, Department of State, (telephone: 202/401-4779). The address is Department of State, SA-44, 301 4th Street, SW., Room 700, Washington, DC 20547-0001.

Dated: August 26, 2002.
Miller Crouch,
Assistant Secretary for Educational and Cultural Affairs (Acting), Department of State.

[FR Doc. 02-22740 Filed 9-5-02; 8:45 am]

BILLING CODE 4710-08-P